DEPARTMENT OF LABOR

Employment and Training Administration

[NAFTA-4509]

U.S. Forest Industries, Inc., South Fork Operation, South Fork, CO; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 U.S.C. 2273), an investigation was initiated on January 30, 2001 in response to a petition filed on behalf of workers at U.S. Forest Industries, Inc., South Fork Operation, South Fork, Colorado.

This case is being terminated because there is currently a petition investigation in process (NAFTA-4362) which covers the workers of the subject company of the immediate investigation. Consequently, further investigation in this case would serve no purpose, and the investigation has been terminated.

Signed at Washington, DC, this 6th day of April, 2001.
Linda G. Poole,
Certifying Officer, Division of Trade Adjustment Assistance.

[FR Doc. 01-9716 Filed 4-18-01; 8:45 am]

BILLING CODE 4510-30-M